DEPARTMENT OF COMMERCE

National Oceanic and Atmospheric Administration

[I.D. 011201E]

Mid-Atlantic Fishery Management Council; Public Meetings

AGENCY: National Marine Fisheries Service (NMFS), National Oceanic and Atmospheric Administration (NOAA), Commerce.

ACTION: Notice of public meetings.

SUMMARY: The Mid-Atlantic Fishery Management Council (MAFMC) and its Comprehensive Management Committee, Surfclam and Ocean Quahog Committee, Executive Committee, and Law Enforcement Committee will hold public meetings.

DATES: The meetings will be held on Tuesday, February 6, 2001, to Thursday, February 8, 2001. See SUPPLEMENTARY INFORMATION for specific dates and times.

ADDRESSES: The meetings will be held at the Wyndham Hotel, 700 King Street, Wilmington, DE; telephone: 302-655-0400.

Council address: Mid-Atlantic Fishery Management Council, 300 S. New Street, Dover, DE 19904; telephone: 302-674-2331.

FOR FURTHER INFORMATION CONTACT: Daniel T. Furlong, Executive Director, Mid-Atlantic Fishery Management Council; telephone: 302-674-2331, ext. 19.

SUPPLEMENTARY INFORMATION: Tuesday, February 6, 2001, 1 p.m. to 5 p.m.—the Comprehensive Management Committee will meet.

From 3 p.m. to 5 p.m.—the Surfclam and Ocean Quahog Committee will meet concurrently.

At 7 p.m., there will be a New England Council Scoping Meeting for the development of a Skate Fishery Management Plan (FMP).

Wednesday, February 7, 2001, 8 a.m. to 9 a.m.—the Executive Committee will meet.

From 8 a.m. to 9 a.m.—the Law Enforcement Committee will meet concurrently.

From 9 a.m. until 4:15 p.m.—the MAFMC will meet.

Thursday, February 8, 2001, 8 a.m. until approximately noon—the MAFMC will meet.

Agenda items for this meeting are: Update MAFMC's research priorities, review and approve draft quota set-aside request for proposals (RFP), review Framework 1 for Secretarial approval, discuss future Comprehensive Management Committee projects; review and evaluate position paper for Amendment 13 to the Surfclam and Ocean Quahog Fishery Management Plan; discuss coordination and processing of joint plans (MAFMC and New England Fishery Management Council, MAFMC and Atlantic States Marine Fisheries Commission); address Federal enforcement of summer flounder, scup, and black sea bass recreational rules in light of possible differences in size, season, and bag limits between exclusive economic zone and state jurisdiction; review and discuss Framework 2 management measures regarding extension of Illex moratorium, Loligo exemption in Illex fishery, real time management of Loligo and rule roll-over for mackerel; review and approve Framework 1 measures regarding quota set-aside for Secretarial submission; Stock Assessment Workshop 32 public review workshop for sea scallops, American plaice, Gulf of Maine haddock, silver hake (whiting); horseshoe crab management update; Information and Education presentation on Marine Recreational Fisheries Statistics Survey (MRFSS) data; review and approve Framework 2 management measures regarding conservation equivalency for Secretarial submission; hear organizational and committee reports including the New England Council's report where the MAFMC may address possible actions on mahogany quahogs, groundfish, scallops, skates, herring, monkfish and dogfish; and address and recommend MAFMC position regarding joint venture processing allocation for mackerel.

Although non-emergency issues not contained in this agenda may come before the MAFMC for discussion, these issues may not be the subject of formal MAFMC action during this meeting. Action will be restricted to those issues specifically listed in this notice and any issues arising after publication of this notice that require emergency action under section 305(c) of the Magnuson-Stevens Fishery Conservation and Management Act, provided the public has been notified of the MAFMC’s intent to take final actions to address such emergencies.

Special Accommodations

This meeting is physically accessible to people with disabilities. Requests for sign language interpretation or other auxiliary aids should be directed to Joanna Davis at the MAFMC (see ADDRESSES) at least 5 days prior to the meeting date.

Dated: January 18, 2001.
Richard W. Surdi,
Acting Director, Office of Sustainable Fisheries, National Marine Fisheries Service.

[FR Doc. 01-2023 Filed 1-23-01; 8:45 am]

BILLING CODE 3510-22-S